DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been removed from the Specially Designated Nationals and Blocked Person List (SDN List). Their property and interests in property are no longer blocked, and U.S. persons are no longer generally prohibited from engaging in transactions with them. Additionally, OFAC is publishing updates to the identifying information of one or more persons currently included on the SDN List. All property and interests in property subject to U.S. jurisdiction of these persons remain blocked, and U.S. persons are generally prohibited from engaging in transactions with them.

DATES: See SUPPLEMENTARY INFORMATION section for applicable date(s).

FOR FURTHER INFORMATION CONTACT: OFAC: Andrea Gacki, Director, tel.: 202-622-2480; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (www.treasury.gov/ofac).

Notice of OFAC Actions

A. On November 22, 2021, OFAC determined that circumstances no longer warrant the inclusion of the following persons on the SDN List and that their property and interests in property are no longer blocked under Executive Order 13224 of September 23, 2001, “Blocking Property and Prohibiting Transactions With Persons Who Commit, Threaten to Commit, or Support Terrorism” (E.O. 13224), as amended by Executive Order 13886 of September 9, 2019, “Modernizing Sanctions to Combat Terrorism” (E.O. 13224, as amended).

Individuals

1. AL-LIBI, Ibn Al-Shaykh (individual) [SDGT].

2. HABBASH, George (a.k.a. HABASH, George); Secretary General of POPULAR FRONT FOR THE LIBERATION OF PALESTINE (individual) [SDGT].

3. LADEHYANOY, Mufti Rashid Ahmad (a.k.a. AHMAD, Mufti Rasheed; a.k.a. LUDHIANVI, Mufti Rashid Ahmad; a.k.a. WADEHYANOY, Mufti Rashid Ahmad), Karachi, Pakistan (individual) [SDGT].

4. SAI'ID, Shaykh (a.k.a. AHMAD, Mustafa Muhammad); POB Egypt (individual) [SDGT].

5. YULDASHEV, Tohir (a.k.a. YULDASHEV, Takhir), Uzbekistan (individual) [SDGT].

B. On November 22, 2021, OFAC updated the entries on the SDN List for the following persons, whose property and interests in property subject to U.S. jurisdiction continue to be blocked under E.O. 13224, as amended.

Individuals

BILLING CODE 4810-AL-P

Entities

1. BENEVOLENCE INTERNATIONAL FOUNDATION (a.k.a. AL BIR AL DAWALIA; a.k.a. BIF; a.k.a. BIF-USA; a.k.a. MEZHDUNARODNYJ BLAGOTVORITEL'NYJ FOND), 8820 Mobile Avenue, 1A, Oak Lawn, IL 60453, United States; (Formerly located at) 20-24 Branford Place, Suite 705, Newark, NJ 07102, United States; (Formerly located at) 9838 S. Roberts Road, Suite 1-W, Palos Hills, IL 60465, United States; P.O. Box 548, Worth, IL 60482, United States; Bashir Safar Ugli 69, Baku, Azerbaijan; 69 Boshir Safaroglu St., Baku, Azerbaijan; Sarajevo, Bosnia and Herzegovina; Zenica, Bosnia and Herzegovina; 3 King Street, South Waterloo, Ontario N2J 3Z6, Canada; P.O. Box 1508 Station B, Mississauga, Ontario L4Y 4G2, Canada; 2465 Cawthra Rd., #203, Mississauga, Ontario L5A 3P2, Canada; Ottawa, Canada; Grozny, Chechnya, Russia; 91 Paihonggou, Lanzhou, Gansu, China; Hrvatov 30, 41000, Zagreb, Croatia; Makhachkala, Daghestan, Russia; Duisi, Georgia; Tbilisi, Georgia; Nazran, Ingushetia, Russia; Burgemeester Kessensingel 40, Maastricht, Netherlands; House 111, First Floor, Street 64, F-10/3, Islamabad, Pakistan; Azovskaya 6, km. 3, off. 401, Moscow, Russia; P.O. Box 1055, Peshawar, Pakistan; Ulitsa Oktyabr'skaya, dom. 89, Moscow, Russia; P.O. Box 1937, Khartoum, Sudan; P.O. Box 7600, Jeddah 21472, Saudi Arabia; P.O. Box 10845, Riyadh 11442, Saudi Arabia; Dushanbe, Tajikistan; United Kingdom; Afghanistan; Bangladesh; Bosnia and Herzegovina; Gaza Strip, undetermined; Yemen; US FEIN 36-3823186 [SDGT].

-to-

BENEVOLENCE INTERNATIONAL FOUNDATION (a.k.a. AL BIR AL DAWALIA; a.k.a. BIF-USA; a.k.a. MEZHDUNARODNYJ BLAGOTVORITEL'NYJ FOND; a.k.a. “BIF”), Bashir Safar Ugli 69, Baku, Azerbaijan; 69 Boshir Safaroglu St., Baku, Azerbaijan; Sarajevo, Bosnia and Herzegovina; Zenica, Bosnia and Herzegovina; 3 King Street, South Waterloo, Ontario N2J 3Z6, Canada; P.O. Box 1508 Station B, Mississauga, Ontario L4Y 4G2, Canada; 2465 Cawthra Rd., #203, Mississauga, Ontario L5A 3P2, Canada; Ottawa, Canada; Grozny, Chechnya, Russia; 91 Paihonggou, Lanzhou, Gansu, China; Hrvatov 30, 41000, Zagreb, Croatia; Makhachkala, Daghestan, Russia; Duisi, Georgia; Tbilisi, Georgia; Nazran, Ingushetia, Russia; Burgemeester Kessensingel 40, Maastricht, Netherlands; House 111, First Floor, Street 64, F-10/3, Islamabad, Pakistan; Azovskaya 6, km. 3, off. 401, Moscow, Russia; P.O. Box 1055, Peshawar, Pakistan; Ulitsa Oktyabr'skaya, dom. 89, Moscow, Russia; P.O. Box 1937, Khartoum, Sudan; P.O. Box 7600, Jeddah 21472, Saudi Arabia; P.O. Box 10845, Riyadh 11442, Saudi Arabia; Dushanbe, Tajikistan; United Kingdom; Afghanistan; Bangladesh; Bosnia and Herzegovina; Gaza Strip, Palestinian; Yemen; IL, United States; US FEIN 36-3823186 [SDGT].

2. TALIB AND SONS PTY LTD, 21 Anthony Dr, 3149 Mt Waverly, Victoria, Australia; Company Number 633227488 (Australia) [SDGT] (Linked To: TALIB, Ahmed Luqman).

-to-

TALIB AND SONS PTY LTD, 21 Anthony Dr, Mt Waverly, Victoria 3149, Australia; Company Number 633227488 (Australia) [SDGT] (Linked To: TALIB, Ahmed Luqman).

3. TRUST LIFE INSURANCE COMPANY S.A.L. (a.k.a. TRUST LIFE; a.k.a. TRUST LIFE INSURANCE CO SAL), JTB Tower, Tahweeta High Way, Elias Hraoui Avenue, Beirut, Lebanon; Jamal Trust Vabk Building, Beirut, Lebanon; Beirut, Lebanon; Additional Sanctions Information—Subject to Secondary Sanctions Pursuant to the Hizballah Financial Sanctions Regulations [SDGT] (Linked To: JAMMAL TRUST BANK S.A.L.).

-to-

TRUST LIFE INSURANCE COMPANY S.A.L. (a.k.a. TRUST LIFE; a.k.a. TRUST LIFE INSURANCE CO SAL), JTB Tower, Tahweeta High Way, Elias Hraoui Avenue, Beirut, Lebanon; Jamal Trust Bank Building, Beirut, Lebanon; Beirut, Lebanon; Additional Sanctions Information—Subject to Secondary Sanctions Pursuant to the Hizballah Financial Sanctions Regulations; Organization Established Date 16 Aug 2001; Registration Number 77138 (Lebanon) [SDGT] (Linked To: JAMMAL TRUST BANK S.A.L.).

C. On November 22, 2021, OFAC resolved one or more duplicate entries on the SDN List for the following persons, whose property and interests in property subject to U.S. jurisdiction continue to be blocked under both Executive Order 13582 of August 17, 2011, “Blocking Property of the Government of Syria and Prohibiting Certain Transactions With Respect to Syria” and E.O. 13224, as amended. For each duplicate pair, OFAC updated one entry and removed one entry on the SDN List.

Updated Entries

1. SHUKR, Fu'ad (a.k.a. CHAKAR, Fu'ad; a.k.a. “CHAKAR, Al-Hajj Mohsin”), Harat Hurayk, Lebanon; Ozai, Lebanon; Al-Firdaws Building, Al-'Arid Street, Haret Hreik, Lebanon; DOB 1962; POB An Nabi Shit, Ba'labakk, Biqa' Valley, Lebanon; alt. POB Beirut, Lebanon; Additional Sanctions Information—Subject to Secondary Sanctions Pursuant to the Hizballah Financial Sanctions Regulations (individual) [SYRIA] (Linked To: HIZBALLAH).

-to-

SHUKR, Fu'ad (a.k.a. CHAKAR, Fu'ad; a.k.a. CHAKAR, Fouad Ali; a.k.a. “CHAKAR, Al-Hajj Mohsin”), Harat Hurayk, Lebanon; Ozai, Lebanon; Al-Firdaws Building, Al-'Arid Street, Haret Hreik, Lebanon; Damascus, Syria; DOB 15 Apr 1961; alt. DOB 1962; POB An Nabi Shit, Ba'labakk, Biqa' Valley, Lebanon; alt. POB Beirut, Lebanon; nationality Lebanon; Additional Sanctions Information—Subject to Secondary Sanctions Pursuant to the Hizballah Financial Sanctions Regulations; Gender Male; Passport RL2418369 (Lebanon) (individual) [SDGT] [SYRIA] (Linked To: HIZBALLAH).

2. AQIL, Ibrahim (a.k.a. AKIEL, Ibrahim Mohamed; a.k.a. AKIL, Ibrahim Mohamed); DOB 24 Dec 1962; alt. DOB 01 Jan 1962; POB Bidnayil, Lebanon; Additional Sanctions Information—Subject to Secondary Sanctions Pursuant to the Hizballah Financial Sanctions Regulations (individual) [SYRIA] (Linked To: HIZBALLAH).

-to-

AQIL, Ibrahim (a.k.a. AKIEL, Ibrahim Mohamed; a.k.a. AKIL, Ibrahim Mohamed; a.k.a. 'AQIL, Abd al-Qadr; a.k.a. 'AQIL, Ibrahim; a.k.a. MEHDI, Ghosn Ali Abdel; a.k.a. “ 'ABD-AL-QADIR”; a.k.a. “TAHSIN”), Syria; Lebanon; DOB 24 Dec 1962; alt. DOB 01 Jan 1962; alt. DOB 20 Mar 1961; alt. DOB 1958; POB Bidnayil, Lebanon; alt. POB Younine, Lebanon; nationality Lebanon; Additional Sanctions Information—Subject to Secondary Sanctions Pursuant to the Hizballah Financial Sanctions Regulations; Gender Male (individual) [SDGT] [SYRIA] (Linked To: HIZBALLAH).

Removed Entries

1. SHUKR, Fu'ad (a.k.a. CHAKAR, Al-Hajj Mohsin; a.k.a. CHAKAR, Fouad Ali; a.k.a. CHAKAR, Fu'ad), Harat Hurayk, Lebanon; Ozai, Lebanon; Al-Firdaqs Building, Al-'Arid Street, Haret Hreik, Lebanon; Damascus, Syria; DOB 15 Apr 1961; alt. DOB 1962; POB An Nabi Shit, Ba'labakk, Biaq' Valley, Lebanon; alt. POB Beirut, Lebanon; nationality Lebanon; Gender Male; Passport RL2418369 (Lebanon) (individual) [SDGT].

2. 'AQIL, Ibrahim (a.k.a. AKIEL, Ibrahim Mohamed; a.k.a. AKIL, Ibrahim Mohamed; a.k.a. 'AQIL, Abd al-Qadr; a.k.a. MEHDI, Ghosn Ali Abdel; a.k.a. “ 'ABD-AL-QADIR”; a.k.a. “TAHSIN”); DOB 24 Dec 1962; alt. DOB 01 Jan 1962; alt. DOB 20 Mar 1961; alt. DOB 1958; POB Bidnayil, Lebanon; alt. POB Younine, Lebanon; nationality Lebanon; Gender Male; Sheikh (individual) [SDGT].

Dated: November 22, 2021.
Bradley T. Smith,
Acting Director, Office of Foreign Assets Control, U.S. Department of the Treasury.

[FR Doc. 2021-25884 Filed 11-26-21; 8:45 am]

BILLING CODE 4810-AL-C